DEPARTMENT OF ENERGY

[OE Docket No: PP-398]

Amended Application for Presidential Permit; Great Northern Transmission Line

AGENCY: Office of Electricity Delivery and Energy Reliability, DOE.

ACTION: Notice of amended application.

SUMMARY: Minnesota Power, an operating division of ALLETE, Inc., has submitted an amended application for a Presidential permit to construct, operate, maintain, and connect an electric transmission line across the United States border with Canada.

DATES: Comments or requests to intervene should be submitted on or before December 18, 2014.

ADDRESSES: Comments or requests to intervene should be addressed as follows: Christopher Lawrence, Office of Electricity Delivery and Energy Reliability (OE-20), U.S. Department of Energy, 1000 Independence Avenue SW., Washington, DC 20585.

FOR FURTHER INFORMATION CONTACT: Christopher Lawrence (Program Office) at 202-586-5260 or via electronic mail at Christopher.Lawrence@hq.doe.gov, or Katherine L. Konieczny (Attorney-Adviser) at 202-586-0503 or via electronic mail at Katherine.Konieczny@hq.doe.gov.

SUPPLEMENTARY INFORMATION: The construction, operation, maintenance, and connection of facilities crossing the international border of the United States for the transmission of electric energy between the United States and a foreign country is prohibited in the absence of a Presidential permit issued pursuant to Executive Order (EO) 10485, as amended by EO 12038.

On April 15, 2014, Minnesota Power filed an application with the Office of Electricity Delivery and Energy Reliability of the Department of Energy (DOE) for a Presidential permit. Minnesota Power has it principal place of business in Duluth, Minnesota. Minnesota Power is an investor-owned utility and provides retail electric service to 144,000 customers and wholesale electric service to 16 municipalities and several industrial customers.

On May 14, 2014, DOE published a Notice of Application in the Federal Register. On October 29, 2014, Minnesota Power submitted an amendment to its Presidential permit application. In the amendment letter notifying DOE of a new proposed border crossing, Minnesota Power stated that in the course of its review and consultation with state and federal agencies, as well as more input with landowners and stakeholders in the vicinity of the proposed border crossing, Minnesota Power determined that the originally proposed border crossing submitted in its application is no longer feasible.

Minnesota Power now proposes to cross the U.S. international border approximately 4.3 miles to the east of its original proposed crossing. The new proposed border crossing for the Great Northern Transmission Line Project would originate at the Minnesota-Manitoba border roughly 2.9 miles east of Highway 89 in Roseau County. It would proceed southeast 0.2 miles and then travel south 2.3 miles to 390th Street and turn east following the Blue and Orange Routes as proposed in the April 15, 2014 application.

Procedural Matters: Any person may comment on this application by filing such comment at the address provided above. Any person seeking to become a party to this proceeding must file a motion to intervene at the address provided above in accordance with Rule 214 of FERC's Rules of Practice and Procedure (18 CFR 385.214). Two copies of each comment or motion to intervene should be filed with DOE on or before the date listed above.

Additional copies of such motions to intervene also should be filed directly with: David Moeller, Senior Attorney, Minnesota Power, 30 West Superior St., Duluth, MN 55802, dmoeller@allete.com AND Mike Donahue, Project Manager, Minnesota Power, 30 West Superior St., Duluth, MN 55802, mdonahue@allete.com AND Jim Atkinson, Environmental Manager, Minnesota Power, 30 West Superior St., Duluth, MN 55802, jbatkinson@allete.com.

Before a Presidential permit may be issued, DOE must determine whether issuance of the permit would be consistent with the public interest. In making that determination, DOE considers the potential environmental impacts of the proposed project pursuant to the National Environmental Policy Act (NEPA), determines the project's impact on electric reliability by ascertaining whether the proposed project would adversely affect the operation of the U.S. electric power supply system under normal and contingency conditions, and considers any other factors that may also be relevant to the public interest. DOE must also obtain the favorable recommendations of the Secretary of State and the Secretary of Defense before issuing a Presidential permit.

Copies of the amended application will be made available, upon request, for public inspection by accessing the program Web site at http://energy.gov/oe/services/electricity-policy-coordination-and-implementation/international-electricity-regulatio-2 or by emailing Angela Troy at angela.troy@hq.doe.gov.

Issued in Washington, DC, on November 12, 2014.
Christopher A. Lawrence,
Electricity Policy Analyst, National Electricity Delivery Division, Office of Electricity Delivery and Energy Reliability.

[FR Doc. 2014-27259 Filed 11-17-14; 8:45 am]

BILLING CODE 6450-01-P